CONSUMER PRODUCT SAFETY COMMISSION

Announcement of Consumer Product Safety Apps Challenge Under the America COMPETES Reauthorization Act of 2011

AGENCY: Consumer Product Safety Commission.

ACTION: Notice.

SUMMARY: To raise awareness of recalls of consumer products and of consumer product safety reports submitted to the U.S. Consumer Product Safety Commission (Commission or CPSC), the Commission announces a prize contest under section 105 of the America COMPETES Reauthorization Act of 2011, 15 U.S.C. 3719 (Act).

DATES: Entries will be accepted until 11:59 p.m. ET on April 28, 2014. Judging will be complete on or about June 30, 2014. Winners are expected to be announced during an awards ceremony in the July or August 2014 time frame.

FOR FURTHER INFORMATION CONTACT: Stacey Palosky, Public Affairs Specialist, Consumer Product Safety Commission, 4330 East West Highway, Bethesda, MD 20814; telephone (301) 504-7648; spalosky@cpsc.gov.

SUPPLEMENTARY INFORMATION: The U.S. Consumer Product Safety Commission (CPSC) is charged with protecting the public from unreasonable risks of injury or death from thousands of types of consumer products under the agency's jurisdiction. CPSC has issued more than 13,000 consumer product recalls since the agency's creation in 1973.

Through CPSC's Web site www.SaferProducts.gov, consumers, child service providers, health care professionals, government officials, and public safety entities can submit reports of harm involving consumer products. Manufacturers (including importers) and private labelers identified in reports receive a copy of the report and have the opportunity to comment on the report. Completed reports and manufacturer comments are published online at www.SaferProducts.gov for anyone to search.

Through the Consumer Product Safety Apps Challenge, the CPSC seeks applications and innovative tools that raise awareness of consumer product safety reports and recalls of consumer products. Because many consumers get consumer product safety information online, CPSC seeks apps and tools that combine recalls and safety reports with online auction sites, online product reviews, search engines and other innovative places where consumers get product information.

CPSC intends to promote the winning applications and tools. Except as set forth in this Notice, CPSC does not plan to retain any intellectual property rights, or assert ownership rights relating to any Consumer Product Safety Apps Challenge submissions, applications or tools.

Contest Requirements and Rules

1. Subject of the Contest: A key goal of the CPSC is to empower consumers with safety information about consumer products. CPSC is challenging developers to create applications (apps) and innovative tools that raise awareness of consumer safety reports submitted to CPSC through its Web site, SaferProducts.gov, and inform the public of recalls of consumer products.

2. Amount of the prize: CPSC will award $1,000 to one winner in each of the following four categories: Best Mashup with Online Auction Sites; Best Mashup with Online Product Reviews; Best Mashup with Search; and Most Innovative. CPSC, in consultation with the judges, reserves the right in its discretion not to make an award in one or more categories based on factors such as quality, quantity or nature of eligible entries.

3. Participation in the contest will be through the Consumer Product Safety Apps Challenge on productsafetyapps.challengepost.com. CPSC will administer the challenge according to the rules and requirements posted on productsafetyapps.challengepost.com.

4. The rules in this Notice supplement the rules on the productsafetyapps.challengepost.com Web site. If there is a conflict between or among any requirement stated on productsafetyapps.challengepost.com and the provisions of this Notice, the provisions of this Notice will govern.

5. Important: Entries must be made through the productsafetyapps.challengepost.com Web site. Registration through productsafetyapps.challengepost.com constitutes “registration to participate in the competition,” required by Section 105(g)(1) of the Act.

6. Entries must comply with form, content, accessibility, platform, security, privacy, eligibility, and other requirements set forth on the productsafetyapps.challengepost.com Web site.

7. Basis on which a winner will be selected:

a. Contestants must demonstrate to the satisfaction of the judges: Usefulness, innovativeness, usability, and potential reach and impact.

• “Usefulness” is defined as the ability to empower users to engage with, and act on, consumer product safety information on an ongoing basis. The best apps will provide this safety information, tailored to the needs of the user.

• For innovativeness, each entry will be rated for the degree of creativity the entry brings to applications focused on consumer product safety. Innovative approaches to reaching large numbers of consumers will score highest. Bonus points will be given for entries that add a “fun factor” to enhance users' knowledge about consumer product safety.

• “Usability” is defined as user-friendly and interactive. These capabilities will be awarded the highest marks. Entries should be applicable and attractive to people who are not necessarily “high tech.” Additional consideration will be given for usability by people in diverse populations.

• For potential reach and impact, the top tools will prove that they can engage a large number of consumers on a regular basis and will engage consumers in a way that encourages consumers to act upon the consumer product safety information.

b. Apps must be designed for the Web, a personal computer, a mobile device (e.g., mobile phone, portable sensor), tablet, console, or any platform broadly accessible on the open Internet.

c. Applications developed for mobile phones must specify the specific operating system(s) on which the app runs and provide a site where the app can be downloaded.

d. Applications must upload data within 24 hours of its release by CPSC to keep information current.

8. Eligibility: To be eligible to participate in the Consumer Product Safety Apps Contest and win a prize:

a. A contestant must create an account on the productsafetyapps.challengepost.com Web site by supplying his/her name and email address. Creating an account will constitute “registration to participate in the competition,” as provided in the Act.

b. A contestant who is an individual must be at least eighteen (18) years of age, and be a citizen of or permanent resident of the United States. If the contestant is an entity, the entity must be incorporated in, and maintain a primary place of business in the United States.

c. No contestant can be a federal entity or federal employee acting within the scope of the federal entity or federal employee's employment.

d. No application submitted in the Contest may use CPSC's logo or official seal or the logo of SaferProducts.gov in any manner, nor may any contestant, application or submission claim or imply federal government endorsement or approval. Applications must make clear to consumers who access the application that use of the application establishes a relationship between the creator of the application and the consumer and that no user of the application will have any rights, whether contractual or otherwise, against or with respect to, CPSC. CPSC will merely provide a link or access to winning applications and CPSC will have no obligation to promote or advertise any application. The following disclaimer must be displayed on all applications or tools submitted to the Contest: This product is not developed or endorsed by CPSC.

e. Each contestant must agree to assume any and all risks and waive any claims against the U.S. government and its related entities (except in the case of willful misconduct) for any injury, death, damage, or loss of property, revenue or profits, whether direct, indirect, or consequential, arising from their participation in the Consumer Product Safety Apps Challenge, whether the injury, death, damage or loss arises through negligence, or otherwise. Participants will not be required to waive claims against CPSC that arise from the unauthorized use or disclosure by the agency of the intellectual property, trade secrets, or confidential information of the contestant.

f. Each contestant may join more than one team, corporation, or nonprofit organization, if the contestant is an individual.

g. The Chairman of the CPSC will determine whether contestants will be responsible for obtaining insurance to cover claims by any third party for death, bodily injury, or property damage or loss resulting from an activity carried out in connection with, or participation in, the Consumer Product Safety Apps Challenge. Insurance requirements will be set forth in the rules and requirements provided on productsafetyapps.challengepost.com.

h. Each contestant must comply with all requirements of this Notice, the rules and requirements posted on productsafetyapps.challengepost.com, and all requirements established by the Act.

9. Procedures for obtaining additional information:

a. During the period of the Consumer Product Safety Apps Challenge, CPSC will operate and maintain a moderated discussion board at productsafetyapps.challengepost.com, to which potential contestants may submit questions to CPSC.

b. CPSC may choose not to respond to any question or comment or to delete questions or comments that CPSC determines are not relevant to the competition. CPSC's responses to questions on the discussion board are not official guidance.

c. CPSC may also maintain a blog on the productsafetyapps.challengepost.com Web site, on which CPSC may post official guidance related to the Consumer Product Safety Apps Challenge. All contestants are bound by official guidance on the blog that is posted before submission of a participant's entry.

10. Intellectual Property:

a. CPSC does not accept any responsibility for a registered contestant's lack of compliance with intellectual property or other federal law. Contestants are subject to the Competition's Intellectual Property policies set forth on productsafetyapps.challengepost.com.

b. Each winner of the Consumer Product Safety Apps Challenge, in consideration of the prize to be awarded, will be required to grant to CPSC, an irrevocable, paid-up, royalty-free nonexclusive worldwide license to post, link to, and display publicly on the Web the winning application(s), for the purpose of the Challenge, during the duration of the Challenge, and for a period of one (1) year after announcement of the winner(s).

c. All contestants will retain all other intellectual property rights over their submissions.

d. CPSC, in its sole and exclusive discretion, may choose to negotiate with any registered contestant to acquire a license to use any intellectual property developed in connection with the Consumer Product Safety Apps Challenge.

11. Judges and Judging Procedures:

a. Subject to the requirements of Public Law No. 111-358, Sec 24 (k), CPSC's Office of Communications, acting on behalf of, and with the authority of the Chairman of the U.S. Consumer Product Safety Commission, will appoint one or more qualified individuals to act as judges of the CPSC Consumer Product Safety Apps Challenge. Judges may include individuals from outside CPSC, including individuals from the private sector and individuals nominated by the Competition. Judges will operate in a transparent manner.

b. A judge may not have a personal or financial interest in, or be an employee, officer, director, or agent of, any entity or individual that is a registered contestant in the Consumer Product Safety Apps Challenge. No judge may have a familial or financial relationship with any individual who is a registered contestant.

c. A judge may not have any matter pending before CPSC or represent anyone in any matter pending before the agency.

d. Specific tasks related to the judging process may be delegated to CPSC employees or employees of a collaborating federal agency.

e. Judges shall have the authority to disregard any minor error in an entry that does not create any substantial benefit or detriment to any contestant.

f. Decisions of the judges are final.

12. Payment of Prizes, Use of Prize Money, and Post-Award Performance:

a. Prize money will be paid after the announcement of the winners, in a time frame consistent with the award ceremony, which will be held approximately in July or August 2014.

b. CPSC may pay prize money directly. In such a case, the winner will provide CPSC with sufficient information to support payment transactions in accordance with CPSC fiscal policy and the issuance of Internal Revenue Service Form 1099.

Authority: 15 U.S.C. 3719.

Dated: January 15, 2014.
Todd A. Stevenson,
Secretary, Consumer Product Safety Commission.

[FR Doc. 2014-01085 Filed 1-21-14; 8:45 am]

BILLING CODE 6355-01-P